DEPARTMENT OF COMMERCE

National Oceanic and Atmospheric Administration

[Docket No. 100324167-0167-01]

NOAA'S Office of Ocean Exploration and Research (OER) Strategic Plan FY 2011-FY 2015

AGENCY: Office of Ocean Exploration and Research (OER), Oceanic and Atmospheric Research (OAR), National Oceanic and Atmospheric Administration (NOAA), Commerce.

ACTION: Notice of availability and request for public comment.

SUMMARY: NOAA'S Office of Ocean Exploration and Research (OER) is seeking comments on the draft OER STRATEGIC PLAN Fiscal Year (FY) 2011-2015, submitted to meet the requirement for program direction under Public Law 111-11, Section 12104(b). The draft OER STRATEGIC PLAN describes the vision, mission, core activities, and organization of the Office of Ocean Exploration and Research.

DATES: Comments on this draft report must be received by 5 p.m. September 30, 2010.

ADDRESSES: You may submit comments, by any one of the following methods:

• Electronic Submissions: Submit all electronic public comments via the Federal eRulemaking Portal http://www.regulations.gov. Identifier is XRIN 0648-XV56.

• Fax: (703) 713-1967, Attn: Yvette Jefferson.

• Mail: NOAA Office of Ocean Exploration and Research (OER) ATTN: OER Plan Comments, 1315 East-West Highway, R/OER, Silver Spring, Maryland 20910.

• Hand Delivery to Silver Spring Metro Center 3: 1315 East-West Highway, Room 10151, Silver Spring, Maryland.

Instructions: No comments will be posted for public viewing until after the comment period has closed. All comments received are a part of the public record and will generally be posted to http://www.regulations.gov without change. All Personal Identifying Information (for example, name, address, etc.) voluntarily submitted by the commenter may be publicly accessible. Do not submit Confidential Business Information or otherwise sensitive or protected information. OAR will accept anonymous comments (enter N/A in the required fields, if you wish to remain anonymous). You may submit attachments to electronic comments in Microsoft Word, Excel, WordPerfect, or Adobe PDF file formats only. This is a non-regulatory request for comment.

Electronic copies of the draft OER Strategic Plan and Public Law 111-11 Chapter XII may be obtained from http://www.regulations.gov.

FOR FURTHER INFORMATION CONTACT: OERPlan.Questions@noaa.gov or NOAA Office of Ocean Exploration and Research (OER), ATTN: OER Plan Questions, 1315 East-West Highway, R/OER, Silver Spring, Maryland 20910.

SUPPLEMENTARY INFORMATION: NOAA'S Office of Ocean Exploration and Research (OER) is seeking comments on the draft OER STRATEGIC PLAN Fiscal Year (FY) 2011-2015, submitted to meet the requirement for program direction under Public Law 111-11, Section 12104(b). The preparation of the report was also directed by the Appropriations Committee in the Joint Explanatory Statement and Senate Report (S. Rept. 110-124) accompanying the Consolidated Fiscal Year 2008 Appropriations (Pub. L. 110-161).

OER seeks to better understand our ocean frontiers through bold and innovative exploration, research and technology development. The Office explores, maps, observes, detects and characterizes ocean areas and phenomena, obtaining archiving, and distributing ocean data in new ways to describe the ocean's living and nonliving resources and physical, chemical and biological characteristics. Data and observations resulting from OER investments will result in new discoveries, insights, knowledge and identification of new frontiers, and will likely lead to new or revised understandings of our largely unknown ocean. The draft OER STRATEGIC PLAN describes how NOAA will implement Chapter XII of Public Law 111-11 through the vision, mission, core activities, and organization of the Office of Ocean Exploration and Research.

NOAA welcomes all comments on the content of the draft report, especially with respect to implementation of the research aspect of the organization. We also request comments on any inconsistencies perceived within the report, and possible omissions of important topics or issues. This draft report is being issued for comment only and is not intended for interim use. For any shortcoming noted within the report, please propose specific remedies. Suggested changes will be incorporated where appropriate, and a final report will be posted on the OER Web site. Please follow these instructions for preparing and submitting comments. Overview comments should be provided first and should be numbered. Comments that are specific to particular pages, paragraphs or lines of the section should follow any overview comments and should identify the page and line numbers to which they apply. Please number each page of your comments. Following these instructions will facilitate the processing of comments and assure that all comments are appropriately considered.

Dated: March 25, 2010.
Mark E. Brown,
Chief Financial Officer/Chief Administrative Officer, Office of Oceanic and Atmospheric Research, National Oceanic and Atmospheric Administration.

[FR Doc. 2010-7020 Filed 3-29-10; 8:45 am]

BILLING CODE 3510-KA-P